DEPARTMENT OF TRANSPORTATION

Federal Highway Administration

23 CFR Part 625

[FHWA Docket No. FHWA-2001-10077]

RIN 2125-AE89

Design Standards for Highways

AGENCY: Federal Highway Administration (FHWA), DOT.

ACTION: Notice of proposed rulemaking (NPRM); request for comments.

SUMMARY: The FHWA is requesting comments on a proposed revision to its policy on the design standards which apply to highway construction and reconstruction projects on the National Highway System (NHS). A 2001 revision of the American Association of State Highway and Transportation Officials' (AASHTO) publication entitled A Policy on Geometric Design of Highways and Streets has replaced the previous version of this policy published in 1994. If adopted by the FHWA, the new AASHTO publication would constitute the FHWA policy on design standards for highway construction and reconstruction projects on the NHS.

DATES: Comments must be received on or before November 19, 2001.

ADDRESSES: Mail or hand deliver comments to the U.S. Department of Transportation, Dockets Management Facility, Room PL-401, 400 Seventh Street, SW., Washington, DC 20590-0001, or submit electronically at http://dmses.dot.gov/submit. All comments should include the docket number that appears in the heading of this document. All comments received will be available for examination and copying at the above address from 9 a.m. to 5 p.m., e.t., Monday through Friday, except Federal holidays. Those desiring notification of receipt of comments must include a self-addressed, stamped envelope or postcard or you may print the acknowledgment page that appears after submitting comments electronically.

FOR FURTHER INFORMATION CONTACT: For technical information: Mr. Seppo Sillan, Office of Program Administration (HIPA), (202) 366-1327. For legal information: Mr. Harold Aikens, Office of the Chief Counsel (HCC-32), (202) 366-1373, Federal Highway Administration, 400 Seventh Street, SW., Washington, DC 20590-0001. Office hours are from 8 a.m. to 4:30 p.m., e.t., Monday through Friday, except Federal holidays.

SUPPLEMENTARY INFORMATION:

Electronic Access and Filing

You may submit or retrieve comments online through the Document Management System (DMS) at: http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

An electronic copy of this document may also be downloaded by using a computer, modem and suitable communications software from the Government Printing Office's Electronic Bulletin Board Service at (202) 512-1661. Internet users may also reach the Office of the Federal Register's home page at: http://www.nara.gov/fedreg and the Government Printing Office's web page at: http://www.access.gpo.gov/nara.

Background

The standards, policies, and standard specifications that have been approved by the FHWA for application on all construction and reconstruction projects on the NHS are incorporated by reference in 23 CFR part 625. The current document specified in § 625.4(a)(1) is the 1994 edition of A Policy on Geometric Design of Highways and Streets (Policy).¹ The AASHTO recently revised the Policy and issued the 2001 edition which the FHWA proposes to adopt as its policy for design standards for all construction and reconstruction projects on the NHS. The primary reason for development of the new document was to update the previous Policy to incorporate the latest design criteria. See “Summary of Changes” below for a description of the changes made in the 2001 edition.

¹ A Policy on Geometric Design of Highways and Streets, 1994, is available from AASHTO by telephone (800) 231-3475, facsimile (800) 525-5562, mail AASHTO, P.O. Box 96716, Washington, DC 20090-6716 or at their web site at www.transportation.org.

The AASHTO is an organization which represents 52 State highway and transportation agencies (including the District of Columbia and Puerto Rico). Its members consist of the duly constituted heads and other chief officials of those agencies. The Secretary of Transportation is an ex officio member, and U.S. DOT officials participate in various AASHTO activities as nonvoting representatives. Among other functions, the AASHTO develops and issues standards, specifications, policies, guides and related materials for use by the States for highway projects. Many of the standards, policies, and standard specifications approved by the FHWA and incorporated into 23 CFR part 625 were developed and issued by the AASHTO. Revisions to such documents of the AASHTO are independently reviewed and adopted by the FHWA before they are applied to NHS projects.

The National Highway System (NHS) was established by the National Highway System Designation Act of 1995, Pub. L. 104-59, Nov. 28, 1995, 109 Stat. 568. The NHS includes the Interstate System and other principal arterials serving major travel destinations and transportation needs, connectors to major transportation terminals, the Strategic Highway Network and connectors, and high priority corridors identified by law.

Generally, the criteria the functional chapters of the Policy on local roads and streets and collectors (Chapters 5 and 6) are not applicable to projects on the NHS. However, if highway segments functionally classified as less than principal arterials are incorporated in the NHS by virtue of being Strategic Highway Network Connectors or Intermodal Connectors, the standards used may be those appropriate for the functional classification of the segment, taking into account the type of traffic using the segment.

Although the standards contained in the Policy do apply to the Interstate System, additional guidance applicable to the design of highways on the Interstate System is included in another AASHTO publication, A Policy on Design Standards—Interstate System.² The latest edition of this publication is dated July, 1991; no revisions to this document are proposed at this time.

² A Policy on Design Standards—Interstate System, 1991, is available from AASHTO (see footnote 1).

Summary of Changes

The changes in the 2001 Policy were developed as the result of formal research projects and information contributed by the AASHTO and the FHWA staff experts. The formal research projects containing information for the 2001 Policy are shown in the following table:

Research | Subject
NCHRP Report 375 | Median Intersection Design.
NCHRP Report 383 | Intersection Sight Distance.
NCHRP Report 395 | Midblock Left Turn Lanes.
NCHRP Report 400 | Stopping Sight Distance.
NCHRP Report 420 | Access Management.
NCHRP Report 439 | Superelevation and Transitions.
NCHRP Synthesis 241 | Truck Operating Characteristics.
NCHRP Synthesis 264 | Modern Roundabout Practice.
HCM 2000 | Highway Capacity Analysis.
TRB Circular 430 | Interchange Operations.
FHWA-RD-97-135 | Older Driver Highway Design Handbook.
FHWA-RD-00-067 | Roundabouts: An Informational Guide.

The NCHRP is the National Cooperative Highway Research Program, a coordinated program of research projects administered by the Transportation Research Board (TRB) of the National Research Council. All NCHRP documents cited herein are available from the TRB by telephone (202) 334-3213, facsimile (202) 334-2519, or at their web site www.nationalacademies.org/trb/bookstore. The Highway Capacity Manual (HCM) is a traffic analysis document produced by a combination of research projects administered by the TRB and the FHWA. The HCM is available from TRB as described above. The TRB Circular is a compendium of articles written by experts on a specific topic and published by the TRB. The TRB Circular is available from TRB as described above. The last two items in the list are research projects conducted by the FHWA. The FHWA documents are available from the National Technical Information Service by telephone (800) 553-6847, facsimile (703) 605-6900, or at their web site www.ntis.gov. In addition, the two FHWA documents may be viewed online at www.tfhrc.gov/library/library.htm.

The following paragraphs provide a brief synopsis of the information that is included in each of the ten chapters of the Policy and, as appropriate, any significant additions, revisions or deletions made to the currently approved 1994 AASHTO Policy (old Policy) in the 2001 Policy (new Policy).³

³ A Policy on Geometric Design of Highways and Streets, 2001, is available from AASHTO (see footnote 1).

All page numbers mentioned in this section refer to the new Policy.

General

All dimensions used throughout the new Policy are expressed in dual units with the Metric value appearing first followed by the U.S. Customary value in square brackets. In the old Policy, only Metric values were given. Throughout the new Policy, pedestrians and bicycles are mentioned and discussed more frequently to increase emphasis on consideration of these transportation modes. Examples of pedestrian considerations can be found on pages 99, 562, and 618 of the new Policy. Examples of bicycle considerations can be found on pages 318, 378, and 482 of the new Policy.

Chapter 1—Highway Functions

In this chapter the concept of functional classification of highways is presented and the various components of the highway are described. This serves as an introduction to functional classification and provides an explanation of how the concept is employed in the Policy. There are no significant changes made in this chapter.

Chapter 2—Design Controls and Criteria

This chapter covers those characteristics of vehicles, pedestrians, bicycles, and traffic that act as criteria for the design of various highway and street functional classes. The design vehicle characteristics and their turning paths (pages 15-43) have been revised by adding four design vehicles, upgrading dimensions to more accurately reflect the existing fleet, and redrawing the turning paths. Information from the FHWA Older Driver Highway Design Handbook ⁴ has been added (page 47). The definition of design speed has been revised (page 67) to incorporate recommendations from NCHRP Report 400.⁵ The coverage of highway capacity (page 74) has been revised to agree with the Highway Capacity Manual 2000 (HCM 2000) ⁶ and to eliminate redundancy. Access control and access management (page 88) has been revised based on the information contained in NCHRP Report 420.

⁴ The Older Driver Highway Design Handbook, January 1998, Publication No. FHWA-RD-97-135, is available from the National Technical Information Service by telephone (800) 553-6847, facsimile (703) 605-6900, or at their web site www.ntis.gov. In addition, the document may be viewed online at www.tfhrc.gov/library/library.htm.

⁵ All NCHRP documents cited herein are available from the TRB (specify NCHRP Report No.) by telephone (202) 334-3213, facsimile (202) 334-2519, or at their web site www.nationalacademies.org/trb/bookstore.

⁶ The Highway Capacity Manual 2000 is available from the TRB by telephone (202) 334-3213, facsimile (202) 334-2519, or at their web site www.nationalacademies.org/trb/bookstore.

Chapter 3—Elements of Design

This chapter covers the basic elements of design, such as sight distance, horizontal and vertical alignment, superelevation, widths of turning roadways, and grades.

1. Stopping sight distance values in the new Policy (page 111) are based on vehicle deceleration rates rather than on friction between tires and roadway as was done in the old Policy. A single value in the new Policy (page 112) replaces the range in values from the old Policy. This incorporates recommendations from NCHRP Report 400. For example, given a design speed of 100 km/h, the design stopping sight distance in the new Policy is 185 m compared to a range of 157 to 205 m in the old Policy.

2. The eye height and object height criteria for measuring sight distance have been revised (page 127). The eye height has been raised from 1070 mm in the old Policy to 1080 mm [3.5 ft] in the new Policy.⁷ The object height for stopping sight distance has been raised from 150 mm in the old Policy to 600 mm [2 ft] in the new Policy. The object height for passing sight distance has been lowered from 1300 mm in the old Policy to 1080 mm [3.5 ft] in the new Policy. This incorporates recommendations from NCHRP Reports 383 and 400.

⁷ The equivalent U.S. Customary value is not shown for the old Policy because it contained only Metric units.

3. The design criteria for horizontal curves (page 228) and vertical curves (page 272) has been revised to reflect the changes in stopping sight distance, eye height, and object height discussed in 1 and 2 above. For example, given a design speed of 100 km/h and an algebraic difference in grade of 4%, the criteria for length of crest vertical curve (based on stopping sight distance) is 208 m in the new Policy compared to a range of 248 to 420 m in the old Policy.

4. The section on Transition Design Controls (page 168) has been revised and additional information has been added on spiral curve transitions to incorporate recommendations from NCHRP Report 439.

5. The offtracking section (page 206) has been revised by recalculating values for WB-15 [WB-50] vehicles and adding an exhibit showing adjustment values for other design vehicles.

6. The values in the section on Traveled Way Widening on Horizontal Curves (page 212) have been recalculated based on the design vehicle dimensions specified in Chapter 2 of the new Policy.

7. The speed-distance curves (page 237-238) have been revised for 120 kg/kW [200 lb/hp] trucks which more closely reflect the existing fleet. The critical lengths of grade (page 242) have also been revised for this same design vehicle.

8. A section on Sight Distance at Undercrossings (page 280) has been added.

9. A section on Fencing (page 301) has been added.

Chapter 4—Cross Section Elements

This chapter discusses the cross section elements of a highway, such as lane and shoulder width, pavement cross slope, medians, frontage roads, and roadsides. The section on curbs (page 323) has been revised to change the terminology from barrier and mountable curbs in the old Policy to vertical and sloping curbs in the new Policy. The discussion on parabolic cross section has been eliminated. The section on medians (page 341) has been revised to incorporate recommendations from NCHRP Report 375. The section on Pedestrian Facilities (page 361) has been revised and expanded.

Chapter 5—Local Roads and Streets

This chapter covers the design guidance applicable to those roads functionally classified as local rural roads and local urban streets. The chapter has been revised as appropriate to include changes discussed in Chapters 2, 3, 4 and 9. The new Policy points out that the AASHTO is currently evaluating alternative design criteria for local roads that carry less than 400 vehicles per day (pages 383-384).

Chapter 6—Collector Roads and Streets

This chapter covers the design guidance applicable to those roads functionally classified as rural collector roads and urban collector streets. The chapter has been revised as appropriate to include changes discussed in Chapters 2, 3, 4 and 9. The new Policy points out that the AASHTO is currently evaluating alternative design criteria for collector roads that carry less than 400 vehicles per day (page 424).

Chapter 7—Rural and Urban Arterials

This chapter presents the basis for design of the principal and minor arterial road systems in rural and urban areas. The chapter has been revised as appropriate to include changes discussed in Chapters 2, 3, 4 and 9. The sections on medians (pages 460 and 478) have been revised to incorporate recommendations from NCHRP Report 375. The sections on access management (pages 471 and 486) have been revised based on the information contained in NCHRP Report 420. The section on Access Control Through Geometric Design (page 488) has been revised to incorporate recommendations from NCHRP Report 395.

Chapter 8—Freeways

This chapter covers the various types of freeways, their design elements, controls, criteria and cross-sectional elements. The chapter has been revised as appropriate to be consistent with the changes discussed in Chapters 2, 3, 4 and 9.

Chapter 9—Intersections

This chapter describes the basic types of intersections, the elements involved in their design, and the accommodation of turning movements. The chapter has been revised as appropriate to be consistent with the changes discussed in Chapters 2, 3, and 4. The definition of the functional area of an intersection has been added (page 560). A discussion on roundabouts has been added (page 578) to incorporate recommendations from NCHRP Synthesis 264⁸ and the FHWA document Roundabouts: An Informational Guide.⁹ The section on intersection sight distance (page 654) has been revised to incorporate the gap acceptance procedure developed in NCHRP Report 383. A discussion on offset left turn lanes (page 727) has been added to incorporate recommendations from NCHRP Report 375.

⁸ NCHRP Synthesis 264 is available from TRB by telephone (202) 334-3213, facsimile (202) 334-2519, or at their web site www.nationalacademies.org/trb/bookstore.

⁹ Roundabouts: An Informational Guide, June 2000, Publication No. FHWA-RD-00-067 is available from the National Technical Information Service by telephone (800) 553-6847, facsimile (703) 605-6900, or at their web site www.ntis.gov. In addition, the document may be viewed online at www.tfhrc.gov/library/library.htm.

Chapter 10—Grade Separations and Interchanges

This chapter discusses the basic types of interchanges and grade separations, along with the design of their features. A discussion on access separations and control on the crossroad at interchanges (page 753) has been added based on the information contained in TRB Circular 430 ¹⁰ and NCHRP Report 420. The sections on single point urban interchanges (page 787), superelevation and cross slope (page 834), and two lane entrance ramps (page 860) have been revised.

¹⁰ TRB Circular 430 is available from the TRB by telephone (202) 334-3213, facsimile (202) 334-2519, or at their web site www.nationalacademies.org/trb/bookstore.

Rulemaking Analyses and Notices

All comments received before the close of business on the comment closing date indicated above will be considered and will be available for examination in the docket at the above address. Comments received after the comment closing date will be filed in the docket and will be considered to the extent practicable. In addition to late comments, the FHWA will also continue to file relevant information in the docket as it becomes available after the comment period closing date, and interested persons should continue to examine the docket for new material. A final rule may be published at any time after close of the comment period.

Executive Order 12866 (Regulatory Planning and Review) and DOT Regulatory Policies and Procedures

The FHWA has determined preliminarily that this proposed action would not be a significant regulatory action within the meaning of Executive Order 12866 or significant within the meaning of the U.S. Department of Transportation regulatory policies and procedures. It is anticipated that the economic impact of this rulemaking would be minimal. Although the new Policy has been revised to incorporate the latest research, the basic criteria remain essentially the same. These proposed changes would not adversely affect, in a material way, any sector of the economy. In addition, these changes would not interfere with any action taken or planned by another agency and would not materially alter the budgetary impact of any entitlements, grants, user fees, or loan programs. Consequently, a full regulatory evaluation is not required.

Regulatory Flexibility Act

In compliance with the Regulatory Flexibility Act (5 U.S.C. 601-612), the FHWA has evaluated the effects of this proposed action on small entities and has determined that the proposed action would not have a significant economic impact on a substantial number of small entities. As stated above, although the new Policy has been revised to incorporate the latest research, the basic criteria remain essentially the same. For these reasons, the FHWA certifies that this action would not have a significant economic impact on a substantial number of small entities.

Unfunded Mandates Reform Act of 1995

This proposed rule would not impose unfunded mandates as defined by the Unfunded Mandates Reform Act of 1995 (Pub. L. 104-4, March 22, 1995, 109 Stat. 48). This proposed rule will not result in the expenditure by State, local, and tribal governments, in the aggregate, or by the private sector, of $100 million or more in any one year (2 U.S.C. 1531 et seq).

Executive Order 12630 (Taking of Private Property)

This rule will not effect a taking of private property or otherwise have taking implications under Executive Order 12630, Governmental Actions and Interface with Constitutionally Protected Property Rights.

Executive Order 12988 (Civil Justice Reform)

This action meets applicable standards in sections 3(a) and 3(b)(2) of Executive Order 12988, Civil Justice Reform, to minimize litigation, eliminate ambiguity, and reduce burden.

Executive Order 13045 (Protection of Children)

We have analyzed this action under Executive Order 13045, Protection of Children from Environmental Health Risks and Safety Risks. This rule is not an economically significant rule and does not concern an environmental risk to health or safety that may disproportionately affect children.

Executive Order 13132 (Federalism Assessment)

This proposed action has been analyzed in accordance with the principles and criteria contained in Executive Order 13132, dated August 4, 1999, and the FHWA has determined that this proposed action would not have sufficient federalism implications to warrant the preparation of a Federalism assessment. The FHWA has also determined that this proposed action would not preempt any State law or State regulation or affect the States' ability to discharge traditional State governmental functions.

Executive Order 12372 (Intergovernmental Review)

Catalog of Federal Domestic Assistance Program Number 20.205, Highway Planning and Construction. The regulations implementing Executive Order 12372 regarding intergovernmental consultation on Federal programs and activities apply to this program.

Paperwork Reduction Act

Under the Paperwork Reduction Act of 1995 (PRA) (44 U.S.C. 3501, et seq.), Federal agencies must obtain approval from the Office of Management and Budget (OMB) for each collection of information they conduct, sponsor, or require through regulations. The FHWA has determined that this proposed action does not contain collection of information requirements for the purposes of the PRA.

National Environmental Policy Act

The FHWA has analyzed this proposed action for the purpose of the National Environmental Policy Act of 1969 (42 U.S.C. 4321 et seq.) and has determined that this proposed action would not have any effect on the quality of the environment.

Executive Order 13175 (Tribal Consultation)

The FHWA has analyzed this proposal under Executive Order 13175, dated November 6, 2000, and believes that the proposed action will not have substantial direct effects on one or more Indian tribes; will not impose substantial direct compliance costs on Indian tribal governments; and will not preempt tribal law. Therefore, a tribal summary impact statement is not required.

Executive Order 13211 (Energy Effects)

We have analyzed this proposed rule under Executive Order 13211, Actions Concerning Regulations That Significantly Affect Energy Supply, Distribution, or Use. We have determined that it is not a significant energy action under that order because it is not a significant regulatory action under Executive Order 12866 and is not likely to have a significant adverse effect on the supply, distribution, or use of energy. Therefore, a Statement of Energy Effects under Executive Order 13211 is not required.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 23 CFR Part 625

Design standards, Grant programs—transportation, highways and roads, Incorporation by reference.

Issued on: September 10, 2001.
Vincent F. Schimmoller,
Deputy Executive Director.

In consideration of the foregoing, the FHWA proposes to amend title 23, Code of Federal Regulations, part 625, as set forth below:

PART 625—DESIGN STANDARDS FOR HIGHWAYS

1. The authority citation for part 625 continues to read as follows:

Authority: 23 U.S.C. 109, 315, and 402; Sec. 1073 of Pub. L. 102-240, 105 Stat. 1914, 2012; 49 CFR 1.48(b) and (n).

2. In § 625.4, revise paragraph (a)(1) to read as follows:

§ 625.4 Standards, policies, and standard specifications.

* * * * *

(a) * * * (1) A Policy on Geometric Design of Highways and Streets, AASHTO 2001. [See § 625.4(d)(1)]

* * * * *

[FR Doc. 01-23260 Filed 9-17-01; 8:45 am]

BILLING CODE 4922-10-P